NATIONAL TRANSPORTATION SAFETY BOARD

Notice of Sunshine Act Meeting Cancellation

The National Transportation Safety Board has cancelled the Sunshine Act meeting previously scheduled for Tuesday, March 13, 2018, at the NTSB Conference Center, 429 L'Enfant Plaza, SW, Washington, DC The matter scheduled to be considered at the Sunshine Act meeting concerned Railroad Accident Brief—Collision of Two Southwestern Railroad Freight Trains, Roswell, New Mexico, April 28, 2015. A rescheduled date has not been determined yet.

NEWS MEDIA CONTACT: Telephone: (202) 314-6100.

FOR MORE INFORMATION CONTACT: Candi Bing, (202) 314-6403 or by email at bingc@ntsb.gov.

Dated: March 12, 2018.
Candi R. Bing,
Federal Register Liaison Officer.

[FR Doc. 2018-05239 Filed 3-12-18; 11:15 am]

BILLING CODE 7533-01-P